DEPARTMENT OF THE TREASURY

Submission for OMB Review; Comment Request

June 8, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 14, 2006 to be assured of consideration.

Internal Revenue Service (IRS)

OMB Number: 1545-0996.

Type of Review: Extension.

Title: Required Distributions From Retirement Plans.

Description: The regulations relate to the required minimum distributions from qualified plans, individual retirement plans, deferred compensation plans under section 457, and section 403(b) annuity contracts, custodial accounts, and retirement income accounts.

Respondents: State, local, or tribal governments, not-for-profit institutions.

Estimated Total Burden Hours: 8,400 hours.

OMB Number: 1545-1480.

Type of Review: Extension.

Title: Hedging Transactions.

Description: The information is required by the IRS to aid it in administering the law and to prevent manipulation. The information will be used to verify that a taxpayer is properly reporting his or her business hedging transactions.

Respondents: Business or other for-profit institutions.

Estimated Total Burden Hours: 171,050 hours.

OMB Number: 1545-1541.

Type of Review: Extension.

Title: Revenue Procedure 97-27, Changes in Methods of Accounting.

Description: The information requested in sections 6, 8, and 13 of Revenue Procedure 97-27 is required in order for the Commissioner to determine whether the taxpayer properly is requesting to change his or her method of accounting and the terms and conditions of that change.

Respondents: Business or other for-profit institutions, individuals or households, not-for-profit institutions, and farms.

Estimated Total Burden Hours: 9,083 hours.

OMB Number: 1545-0770.

Type of Review: Extension.

Title: Transfers of Securities Under Certain Agreements.

Description: Section 1058 of the Internal Revenue Code provides tax-free treatment for transfers of securities pursuant to a securities lending agreement. The agreement must be in writing and is used by the taxpayer, in a tax audit situation, to justify non-recognition treatment of gain or loss on the exchange of securities.

Respondents: Business or other for-profit and non-profit institutions, individuals and households.

Estimated Total Burden Hours: 9,781 hours.

OMB Number: 1545-0239.

Type of Review: Extension.

Title: Statement by Person(s) Receiving Gambling Winnings.

Form: Form 5754.

Description: Section 3402(q)(6) of the Internal Revenue Code requires a statement by persons receiving certain gambling winnings when that person is not the winner or is one of a group of winners. It enables the payer to properly apportion the winnings and withheld tax on Form W-2G. The IRS uses the information on Form W-2G to ensure that recipients are properly reporting their income.

Respondents: Business or other for-profit and non-profit institutions, individuals and households, not-for-profit institutions.

Estimated Total Burden Hours: 40,800 hours.

OMB Number: 1545-1820.

Type of Review: Extension.

Title: Revenue Procedure 2003-33, Section 9100 Relief for 338 Elections.

Description: Pursuant to 301.9100-3 of the Procedure and Administration Regulations, this procedure grants certain taxpayers an extension of time to file an election described in 338(a) or 338(h)(10) of the Internal Revenue Code to treat the purchase of the stock of a corporation as an asset acquisition.

Respondents: Business or other for-profit and non-profit institutions, individuals and households.

Estimated Total Burden Hours: 300 hours.

OMB Number: 1545-1035.

Type of Review: Extension.

Title: Recapture of Low-Income Housing Cost.

Description: Internal Revenue Code Section 42 permits owners of residential projects providing low-income housing to claim a credit against their income tax. If the property is disposed of or it fails to meet certain requirements over a 15-year compliance period and a bond is not posted, the owner must recapture on Form 8611 part of the credit(s) taken in prior years.

Respondents: Business or other for-profit institutions, individuals and households.

Estimated Total Burden Hours: 7,842 hours.

Clearance Officer: Glenn P. Kirkland, Internal Revenue Service, Room 6516, 1111 Constitution Avenue, NW., Washington, DC 20224. (202) 622-3428.

OMB Reviewer: Alexander T. Hunt, Office of Management and Budget, Room 10235, New Executive Office Building, Washington, DC 20503. (202) 395-7316.

Robert Dahl,
Treasury PRA Clearance Officer.

[FR Doc. E6-9273 Filed 6-13-06; 8:45 am]

BILLING CODE 4830-01-P